DEPARTMENT OF TRANSPORTATION

National Highway Traffic Safety Administration

Reports, Forms and RecordKeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on March 23, 2010, Vol. 75, No. 55, Pages 13806-13807.

DATES: Comments must be submitted on or before June 28, 2010.

FOR FURTHER INFORMATION CONTACT: Tamara Webster at the National Highway Traffic Safety Administration, Office of Regional Operations and Program Delivery (NTI-200), 202-366-2701, 1200 New Jersey Avenue, SE., W46-490, Washington, DC 20590.

SUPPLEMENTARY INFORMATION:

National Highway Traffic Safety Administration

Title: 23 CFR, Part 1350, Certificate Requirements for Section 2010 Motorcyclist Safety Grant Program.

OMB Number: 2127-0650.

Type of Request: Extension to a previously approved collection of information.

Abstract: A motorcyclist safety incentive grant is available to help States enhance motorcyclist safety training and motorcyclist awareness programs. To qualify for a first year grant under the grant program, a State must demonstrate that it has satisfied one of six criteria: (1) Statewide motorcycle rider training course, (2) statewide motorcyclists awareness program, (3) reduction of fatalities and crashes involving motorcycles, (4) statewide impaired driving program, (5) reduction of fatalities and accidents involving impaired motorcyclists, and (6) use of fees collected from motorcyclists for motorcycle programs. In second and subsequent fiscal years, a State must demonstrate that it has satisfied at least two of six criteria.

Affected Public: The 50 States, the District of Columbia, and Puerto Rico.

Estimated Total Annual Burden: 1560 hours.

ADDRESSES: Send comments, within 30 days, to the Office of Information and Regulatory Affairs, Office of Management and Budget, 725-17th Street, NW., Washington, DC 20503, Attention NHTSA Desk Officer.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Marlene Markison,
Associate Administrator, Regional Operations and Program Delivery.

[FR Doc. 2010-12971 Filed 5-27-10; 8:45 am]

BILLING CODE P